DEPARTMENT OF HOMELAND SECURITY

Coast Guard

33 CFR Part 117

[Docket No. USCG-2018-0952]

RIN 1625-AA09

Drawbridge Operation Regulations; Industrial Seaway Canal, MS

AGENCY: Coast Guard, DHS.

ACTION: Notice of temporary deviation from regulations; request for comments.

SUMMARY: The Coast Guard is issuing a temporary deviation to the operating schedule that regulates the State Route 605 (SR 605), Wilkes Road bascule bridge across the Industrial Seaway Canal, mile 11.3 at Hansboro, Harrison County, Mississippi. This deviation is needed to collect and analyze information on vehicle traffic congestion on SR 605 created when the drawbridge opens to vessel traffic. This deviation allows the bridge to remain closed to navigation. The Coast Guard is seeking comments from the public about the impact to both vehicle and vessel traffic generated by this change.

DATES: This deviation is effective from 6 a.m. February 8, 2019 through 6 p.m. June 10, 2019.

Comments and related material must be received by the Coast Guard on or before June 10, 2019.

ADDRESSES: You may submit comments identified by docket number USCG-2018-0952 using Federal eRulemaking Portal at http://www.regulations.gov. See the “Public Participation and Request for Comments” portion of the SUPPLEMENTARY INFORMATION section for further instructions on submitting comments.

FOR FURTHER INFORMATION CONTACT: If you have questions about this rulemaking, call or email Mr. Doug Blakemore, Eighth Coast Guard District Bridge Administrator; telephone (504) 671-2128, email Douglas.A.Blakemore@uscg.mil.

SUPPLEMENTARY INFORMATION:

Table of Abbreviations

CFR Code of Federal Regulations

DHS Department of Homeland Security

FR Federal Register

MDOT Mississippi Department of Transportation

NPRM Notice of proposed rulemaking

SR State Route

§ Section

I. Background, Purpose and Legal Basis

MDOT has requested to change the operating requirements for the SR 605 bascule bridge across the Industrial Seaway Canal, mile 11.3, at Hansboro, Harrison County, Mississippi. This bridge currently opens on signal according to 33 CFR 117.5. MDOT provided the Coast Guard with a vehicle traffic study that concluded that vehicle traffic becomes very congested on SR 605 during morning and afternoon rush hours and that bridge openings for vessels add to the congestion. MDOT informed the Coast Guard that this traffic congestion backs up from the bridge to the I-10 highway which creates unsafe queues on I-10 and SR 605. This MDOT study and analysis is provided in the docket to this temporary rule.

The 120 day temporary deviation to the regulation will allow MDOT to collect additional vehicle traffic data to measure the impact of bridge closures on traffic congestion. It will also allow the Coast Guard to collect data on the impact of the temporary regulation change on vessels.

This bridge has a vertical clearance of 37.1 feet above mean high water in the closed to vessel position and unlimited vertical clearance in the open to vessel traffic position. From January through December 2017 the bridge opened for vessel traffic 236 times. During this temporary deviation the bridge will operate as follows:

The draw of the SR 605 bascule bridge across the Industrial Seaway Canal, mile 4.5, Hansboro, Harrison County, Mississippi shall open on signal; except the draw need not open 6 a.m. to 8:30 a.m. and 4 p.m. to 6 p.m. Monday through Friday except federal holidays. The bridge will open on signal for emergencies.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

Public participation is essential to effective rulemaking. The Coast Guard will consider all comments and material received during the comment period. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. We accept anonymous comments. All comments received will be posted without change to http://www.regulations.gov and will include any personal information you have provided. For more about privacy and the docket, you may review a Privacy Act notice regarding the Federal Docket Management System in the March 24, 2005, issue of the Federal Register (70 FR 15086).

Documents mentioned in this notification, and all public comments, are in our online docket at http://www.regulations.gov and can be viewed by following that website's instructions. Additionally, if you go to the online docket and sign up for email alerts, you will be notified when comments are posted or a final rule is published.

Dated: January 31, 2019.
Douglas Allen Blakemore, Sr.,
Bridge Administrator, Eighth Coast Guard District.

[FR Doc. 2019-01549 Filed 2-7-19; 8:45 am]

BILLING CODE 9110-04-P